DEPARTMENT OF THE INTERIOR

Fish and Wildlife Service

Endangered and Threatened Species Permit Application

AGENCY: Fish and Wildlife Service, Interior.

ACTION: Notice of receipt of application.

The following applicants have applied for scientific research permits to conduct certain activities with endangered species pursuant to sections 10(a)(1)(A) and 10(c) of the Endangered Species Act of 1973, as amended (16 U.S.C. 1531, et seq.).

Permit Number TE040873

Applicant: Jeffrey Robert Skinner, Kirksville, Missouri

The applicant requests a permit to take Mead's milkweed (Asclepias meadii) in Missouri.

Permit Number TE040874

Applicant: Kelly E. Lane, St. Louis, Missouri

The applicant requests a permit to take (capture, handle, and harass) gray bat (Myotis grisescens) and Indiana bat (M. Sodalis) in several areas in Missouri. The scientific research is aimed at enhancement of survival of the species in the wild.

Permit Number TE040878

Applicant: The Nature Conservancy, Indiana Field Office, Indianapolis, Indiana

The applicant requests a permit to take the Karner blue butterfly (Lycaeides melissa samuelis) in Lake County, Indiana. The applicant is proposing to re-introduce the Karner blue butterfly into restored habitat within the species historic range. The scientific research is aimed at enhancement of survival of the species in the wild.

Permit Number TE040881

Applicant: Timothy C. Carter, Murphysboro, Illinois

The applicant requests a permit to authorize take (capture, handle, mark and release) gray bat (Myotis grisescens) and Indiana bat (M. Sodalis) throughout Illinois, Indiana, Iowa, Michigan, Missouri, Ohio and Wisconsin. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or FAX (612) 713-5292.

Dated: April 9, 2001.
Lynn M. Lewis,
Acting Assistant Regional Director, Ecological Services, Region 3, Fort Snelling, Minnesota.

[FR Doc. 01-9661 Filed 4-18-01; 8:45 am]

BILLING CODE 4310-55-P